DEPARTMENT OF ENERGY

Federal Energy Regulatory Commission

[Docket Nos. AD08-2-000; ER07-1375-000; ER07-970-000; ER07-1311-000; OA07-54-000; NJ08-2-000; ER08-280-000; ER08-140-000]

Interconnection Queuing Practices; Midwest Independent Transmission System Operator, Inc.; Midwest Independent Transmission System Operator, Inc.; Southwest Power Pool PacifiCorp; United States Department of Energy Bonneville Power Administration; PJM Interconnection, L.L.C.; California Independent System Operator Corporation; Notice Inviting Comments

December 17, 2007.

On December 11, 2007, the Commission held a technical conference to obtain information as to any queue issues that may have arisen since the issuance of Order No. 2003 and solutions that may have been developed or proposed to deal with those queue issues.¹ The purpose of the technical conference was to discuss possible methods to address the current challenges of queue management while still honoring the goals of Order No. 2003. All interested persons are invited to file written comments no later than January 10, 2008 in relation to the issues that were the subject of the technical conference.

¹ Standardization of Generator Interconnection Agreements and Procedures, Order No. 2003, FERC Stats. & Regs. ¶ 31,146 (2003), order on reh'g, Order No. 2003-A, FERC Stats. & Regs. ¶ 31,160, order on reh'g, Order No. 2003-B, FERC Stats. & Regs. ¶ 31,171 (2004), order on reh'g, Order No. 2003-C, FERC Stats. & Regs. ¶ 31,190 (2005), aff'd sub nom. Nat'l Ass'n of Regulatory Util. Comm'rs v. FERC, 475 F.3d 1277 (D.C. Cir. 2007). See also Standardization of Small Generator Interconnection Agreements and Procedures, Order No. 2006, FERC Stats. & Regs. ¶ 31,180, order on reh'g, Order No. 2006-A, FERC Stats. & Regs. ¶ 31,196 (2005), order granting clarification, Order No. 2006-B, FERC Stats. & Regs. ¶ 31,221 (2006), appeal pending sub nom. Consol. Edison Co. of N.Y., Inc. v. FERC, Nos. 06-1275, et al. (D.C. Cir. filed July 14, 2006 and later); Interconnection for Wind Energy, Order No. 661, FERC Stats. & Regs. ¶ 31,186 (2005), order on reh'g, Order No. 661-A, FERC Stats. & Regs. ¶ 31,198 (2005).

Filing Requirements for Paper and Electronic Filings

Comments, papers, or other documents related to this proceeding may be filed in paper format or electronically. The Commission strongly encourages electronic filings. Those filing electronically do not need to make a paper filing.

Documents filed electronically via the Internet must be prepared in MS Word, Portable Document Format, or ASCII format. To file the document, access the Commission's Web site at http://www.ferc.gov, click on “e-Filing” and then follow the instructions for each screen. First time users will have to establish a user name and password. The Commission will send an automatic acknowledgement to the sender's e-mail address upon receipt of comments. User assistance for electronic filing is available at 202-502-8258 or by e-mail to efiling@ferc.gov. Do not submit comments to this e-mail address.

For paper filings, the original and 14 copies of the comments should be submitted to the Office of the Secretary, Federal Energy Regulatory Commission, 888 First Street, NE., Washington, DC 20426.

All written comments will be placed in the Commission's public files and will be available for inspection at the Commission's Public Reference Room, 888 First Street, NE., Washington, DC 20426, during regular business hours.

Kimberly D. Bose,
Secretary.

[FR Doc. E7-25006 Filed 12-26-07; 8:45 am]

BILLING CODE 6717-01-P